DEPARTMENT OF COMMERCE

National Oceanic and Atmospheric Administration

RIN 0648-XC667

Endangered Species; File No. 17304

AGENCY: National Marine Fisheries Service (NMFS), National Oceanic and Atmospheric Administration (NOAA), Commerce.

ACTION: Notice; receipt of application.

SUMMARY: Notice is hereby given that Kristen Hart, Ph.D., U.S. Geological Survey, has applied in due form for a permit to take loggerhead (Caretta caretta), hawksbill (Eretmochelys imbricata), Kemp's ridley (Lepidochelys kempii), and green (Chelonia mydas) sea turtles for purposes of scientific research.

DATES: Written, telefaxed, or email comments must be received on or before June 17, 2013.

ADDRESSES: The application and related documents are available for review by selecting “Records Open for Public Comment” from the Features box on the Applications and Permits for Protected Species (APPS) home page, https://apps.nmfs.noaa.gov, and then selecting File No. 17304 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division

• by email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on this application would be appropriate.

FOR FURTHER INFORMATION CONTACT: Amy Hapeman or Rosa L. González, (301)427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to determine distribution, seasonal movements, vital rates and habitat use of sub-adult, juvenile, and adult green, loggerhead, Kemp's ridley, and hawksbill sea turtles in the northern Gulf of Mexico. Researchers would capture sea turtles by hand or using nets or obtain sea turtles from relocation trawlers and perform the following procedures before release: measure, remove epibiota, carapace mark, photograph/video, flipper and passive integrated transponder tag, weigh, skin, fecal, scute and blood sample, lavage, track, and/or attach up to three transmitters on 100 green, 100 loggerhead, 100 Kemp's ridley, and 20 hawksbill sea turtles annually.

Dated: May 14, 2013.
P. Michael Payne,
Chief, Permits and Conservation Division, Office of Protected Resources, National Marine Fisheries Service.

[FR Doc. 2013-11774 Filed 5-16-13; 8:45 am]

BILLING CODE 3510-22-P